DEPARTMENT OF DEFENSE

Department of the Navy

Notice of Closed Meeting of the Chief of Naval Operations (CNO) Executive Panel

AGENCY: Department of the Navy, DoD.

ACTION: Notice.

SUMMARY: The CNO Executive Panel will report on the findings and recommendations of the Piracy Subcommittee to the Chief of Naval Operations. The executive session of this meeting will consist of discussions of current and national and Naval strategies, plans, and policies as they relate to counter-piracy efforts from a U.S. Navy perspective, both as an independent entity and as a member of a coalition task force. The discussion of such information would be exempt from public disclosure as set forth in sections 552b(c)(5), (6), and (7) of title 5, United States Code. For this reason the executive session of this meeting will be closed to the public.

DATES: The closed Executive Session will be held on March 11, 2009 from 12:30 p.m. to 3 p.m.

ADDRESSES: The meeting will be held at CNA Building, 4825 Mark Center Drive, Alexandria, VA 22311-1846, Room 1A01.

FOR FURTHER INFORMATION CONTACT: Bree A. Hartlage, CNO Executive Panel, 4825 Mark Center Drive, Alexandria, VA 22311-1846, telephone: 703-681-4907.

SUPPLEMENTARY INFORMATION: This notice of meeting is provided per the Federal Advisory Committee Act, as amended (5 U.S.C. App.). The executive session of this meeting will consist of discussions of current and national and Naval strategies, plans, and policies as they relate to counter-piracy efforts from a U.S. Navy perspective, both as an independent entity and as a member of a coalition task force. Discussion of such information cannot be adequately segregated from other topics, which precludes opening the executive session of this meeting.

Accordingly, the Secretary of the Navy has determined in writing that the public interest requires that all sessions of this meeting be closed to the public because it will be concerned with matters listed in sections 552b(c)(5), 6, and (7) of title 5, United States Code.

Dated: February 13, 2009.
A.M. Vallandingham,
Lieutenant Commander, Judge Advocate General's Corps, U.S. Navy, Federal Register Liaison Officer.

[FR Doc. E9-3754 Filed 2-20-09; 8:45 am]

BILLING CODE 3810-FF-P